DEPARTMENT OF LABOR

Occupational Safety and Health Administration

29 CFR Part 1915

Fire Protection for Shipyard Employment Negotiated Rulemaking Advisory Committee; Meeting

AGENCY: Occupational Safety and Health Administration (OSHA), Labor.

ACTION: Fire Protection for Shipyard Employment Negotiated Rulemaking Advisory Committee; notice of open meeting.

SUMMARY: The Occupational Safety and Health Administration announces a meeting of the Fire Protection for Shipyard Employment Negotiated Rulemaking Advisory Committee. OSHA invites all interested persons to attend. The committee members represent groups interested in, or significantly affected by, the outcome of the rulemaking. They include representatives of shipyards, labor unions, professional associations, and government agencies. The committee will continue its discussions on a proposed standard to protect workers from fire hazards in shipyard employment, including the following areas: scope and application; administrative, engineering, and work practice controls; fire brigades; written fire plans; technological advances; cost of fire protection; and the content of appendices. The committee's goal is to reach consensus on a draft proposed standard and explanatory preamble that it will recommend to OSHA.

DATES: The meeting will take place Tuesday and Wednesday, February 5-6, 2002 from 8 a.m. to about 4 p.m. daily, and Thursday, February 7, 2002 from 8 a.m. to 12 p.m. Submit comments, requests for oral presentations, and requests for disability accommodations by January 31, 2002.

ADDRESSES: The meeting will be held at the Hilton Houston Hobby Airport, 8181 Airport Blvd., Houston TX 77061 (713) 645-3000. Mail comments and requests for oral presentations to U.S. Department of Labor, OSHA, Mr. Joseph V. Daddura (Acting Director) Office of Maritime Standards, 200 Constitution Avenue, NW., Room N-3609, Washington, DC 20210 or e-mail at joe.daddura@osha.gov.

FOR FURTHER INFORMATION CONTACT: Mr. Joseph V. Daddura (Acting Director) Office of Maritime Standards, OSHA (202 693-2067) or e-mail at joe.daddura@osha.gov. For disability accommodations, contact Ms. Theda Kenney (202 693-2044).

SUPPLEMENTARY INFORMATION:

Meeting Agenda

The Committee will review a working draft of the regulatory text of proposed subpart P of 29 CFR 1915 and a preamble section entitled “Summary and Explanation”, which reflects the Committee's earlier work; as well as a summary of the industry profile, prepared by OSHA based on information received at earlier Committee meetings. The committee will attempt to resolve any substantive discrepancies that remain in contention, giving special consideration to small business concerns.

Public Participation

Send written comments, data, views, or statements for the Committee's consideration to Mr. Joseph V. Daddura. You may also request the opportunity to make an oral presentation to the committee by providing Mr. Daddura with a summary of the proposed presentation, an estimate of the time desired, and a statement of the interest you represent. The committee's facilitator will allow such presentations if there is adequate time in the meeting schedule.

Authority: This document is issued pursuant to the Negotiated Rulemaking Act of 1990 (5 U.S.C. 561 et seq.) and Section 7(b) of the Occupational Safety and Health Act of 1970 (29 U.S.C. 656).

John L. Henshaw,
Assistant Secretary of Labor.

[FR Doc. 02-1589 Filed 1-17-02; 1:40 pm]

BILLING CODE 4510-26-M